Executive Order 13996 of January 21, 2021

Establishing the COVID-19 Pandemic Testing Board and Ensuring a Sustainable Public Health Workforce for COVID-19 and Other Biological Threats

By the authority vested in me as President by the Constitution and the laws of the United States of America, including section 301 of title 3, United States Code, it is hereby ordered as follows:

Section 1. Policy. It is the policy of my Administration to control coronavirus disease 2019 (COVID-19) by using a Government-wide, unified approach that includes: establishing a national COVID-19 testing and public health workforce strategy; working to expand the supply of tests; working to bring test manufacturing to the United States, where possible; working to enhance laboratory testing capacity; working to expand the public health workforce; supporting screening testing for schools and priority populations; and ensuring a clarity of messaging about the use of tests and insurance coverage.

Sec. 2. COVID-19 Pandemic Testing Board.

(a) Establishment and Membership. There is established a COVID-19 Pandemic Testing Board (Testing Board), chaired by the Coordinator of the COVID-19 Response and Counselor to the President (COVID-19 Response Coordinator) or his designee. The Testing Board shall include representatives from executive departments and agencies (agencies) that are designated by the President. The heads of agencies so designated shall designate officials from their respective agencies to represent them on the Testing Board.

(b) Mission and Functions. To support the implementation and oversight of the policy laid out in section 1 of this order, the Testing Board shall:

(i) coordinate Federal Government efforts to promote COVID-19 diagnostic, screening, and surveillance testing;

(ii) make recommendations to the President with respect to prioritizing the Federal Government's assistance to State, local, Tribal, and territorial authorities, in order to expand testing and reduce disparities in access to testing;

(iii) identify barriers to access and use of testing in, and coordinate Federal Government efforts to increase testing for:

(A) priority populations, including healthcare workers and other essential workers;

(B) communities with major shortages in testing availability and use;

(C) at-risk settings, including long-term care facilities, correctional facilities, immigration custodial settings, detention facilities, schools, child care settings, and food processing and manufacturing facilities; and

(D) high-risk groups, including people experiencing homelessness, migrants, and seasonal workers;

(iv) identify methods to expand State, local, Tribal, and territorial capacity to conduct testing, contact tracing, and isolation and quarantine, in order for schools, businesses, and travel to be conducted safely;

(v) provide guidance on how to enhance the clarity, consistency, and transparency of Federal Government communication with the public about the goals and purposes of testing;

(vi) identify options for the Federal Government to maximize testing capacity of commercial labs and academic labs; and

(vii) propose short- and long-term reforms for the Federal Government to: increase State, local, Tribal, and territorial capacity to conduct testing; expand genomic sequencing; and improve the effectiveness and speed of the Federal Government's response to future pandemics and other biological emergencies.

(d) The Chair of the Testing Board shall coordinate with the Secretary of Health and Human Services (HHS) and the heads of other relevant agencies or their designees, as necessary, to ensure that the Testing Board's work is coordinated with the Public Health Emergency Countermeasures Enterprise within HHS.

Sec. 3. Actions to Address the Cost of COVID-19 Testing. (a) The Secretary of the Treasury, the Secretary of HHS, and the Secretary of Labor, in coordination with the COVID-19 Response Coordinator, shall promptly, and as appropriate and consistent with applicable law:

(i) facilitate the provision of COVID-19 testing free of charge to those who lack comprehensive health insurance; and

(ii) clarify group health plans' and health insurance issuers' obligations to provide coverage for COVID-19 testing.

(b) The Secretary of HHS, the Secretary of Education, and the Secretary of Homeland Security, through the Administrator of the Federal Emergency Management Agency (FEMA), in coordination with the COVID-19 Response Coordinator, shall promptly, and as appropriate and consistent with applicable law:

(i) provide support for surveillance tests for settings such as schools; and

(ii) expand equitable access to COVID-19 testing.

Sec. 4. Establishing a Public Health Workforce Program. (a) The Secretary of HHS and the Secretary of Labor shall promptly consult with State, local, Tribal, and territorial leaders to understand the challenges they face in pandemic response efforts, including challenges recruiting and training sufficient personnel to ensure adequate and equitable community-based testing, and testing in schools and high-risk settings.

(b) The Secretary of HHS shall, as appropriate and consistent with applicable law, as soon as practicable:

(i) provide technical support to State, local, Tribal, and territorial public health agencies with respect to testing and contact-tracing efforts; and

(ii) assist such authorities in the training of public health workers. This may include technical assistance to non-Federal public health workforces in connection with testing, contact tracing, and mass vaccinations, as well as other urgent public health workforce needs, such as combating opioid use.

(c) The Secretary of HHS shall submit to the President, through the COVID-19 Response Coordinator, the Assistant to the President for Domestic Policy (APDP), and the Assistant to the President for National Security Affairs (APNSA), a plan detailing:

(i) how the Secretary of HHS would deploy personnel in response to future high-consequence public health threats; and

(ii) five-year targets and budget requirements for achieving a sustainable public health workforce, as well as options for expanding HHS capacity, such as by expanding the U.S. Public Health Service Commissioned Corps and Epidemic Intelligence Service, so that the Department can better respond to future pandemics and other biological threats.

(d) The Secretary of HHS, the Secretary of Homeland Security, the Secretary of Labor, the Secretary of Education, and the Chief Executive Officer of the Corporation for National and Community Service, in coordination with the COVID-19 Response Coordinator, the APDP, and the APNSA, shall submit a plan to the President for establishing a national contact tracing and COVID-19 public health workforce program, to be known as the U.S. Public Health Job Corps, which shall be modeled on or developed as a component of the FEMA Corps program. Such plan shall include means by which the U.S. Public Health Job Corps can be part of the National Civilian Community Corps program, as well as recommendations about whether it would be appropriate for the U.S. Public Health Job Corps to immediately assign personnel from any of the agencies involved in the creation of the plan, including existing AmeriCorps members, to join or aid the U.S. Public Health Job Corps. The U.S. Public Health Job Corps will:

(i) conduct and train individuals in contact tracing related to the COVID-19 pandemic;

(ii) assist in outreach for vaccination efforts, including by administering vaccination clinics;

(iii) assist with training programs for State, local, Tribal, and territorial governments to provide testing, including in schools; and

(iv) provide other necessary services to Americans affected by the COVID-19 pandemic.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

January 21, 2021.

[FR Doc. 2021-01854

Filed 1-25-21; 11:15 am]

Billing code 3295-F1-P